NUCLEAR REGULATORY COMMISSION

[Docket No. 40-8767; License No. SUC-1380]

Removal of the Lake City Army Ammunition Plant From the Site Decommissioning Management Plan

AGENCY: Nuclear Regulatory Commission.

ACTION: Notice of removal from the site decommissioning management plan.

This notice is to inform the public that the United States Nuclear Regulatory Commission (NRC) is removing the Lake City Army Ammunition Plant (LCAAP) from the Site Decommissioning Management Plan (SDMP). The SDMP is a program, created by the Commission, to ensure that the NRC focuses special attention on certain sites to ensure timely decommissioning of those sites. LCAAP is one of the sites included in the SDMP.

LCAAP is located in Independence, Missouri. The U.S. Department of the Army (the licensee) is the holder of NRC Materials License SUC-1380, which covers a number of facilities including LCAAP. LCAAP is a facility that was used for the production and testing of munitions containing depleted uranium (DU). LCAAP, in addition to being included in NRC's SDMP, is also included in the U.S. Environmental Protection Agency's (EPA's) Superfund Program, the National Contingency Plan.

The licensee recently completed remediation of both the LCAAP 600-Yard Bullet Catcher and the DU contaminated portion of Building 3A. Remediation of the remaining DU contaminated areas will not be completed for a number of years because of both Resource Conservation and Recovery Act related issues and the continuing use of the LCAAP firing range. EPA, the Missouri Department of Natural Resources (MDNR), NRC, and the licensee agreed that DU remediation for the remaining portions of LCAAP could be regulated under the provisions of Comprehensive Environmental Response, Compensation, and Liability Act, the LCAAP Federal Facility Agreement, and Executive Order 12580. Both EPA and MDNR will provide regulatory oversight of the DU remediation during this period. NRC Material License SUC-1380 will continue to cover LCAAP until DU contamination is remediated. Once a determination is made that the remainder of the DU contamination has been remediated, NRC will review the documentation supporting that determination. In addition, NRC may perform a confirmatory survey. Once NRC agrees with that determination, NRC will remove LCAAP from NRC Materials License SUC-1380. Based on the agreement between the agencies and successful remediation of both the LCAAP 600-Yard Bullet Catcher and Building 3A, NRC has determined that LCAAP no longer requires the special attention associated with the SDMP. Therefore, LCAAP is being removed from the SDMP.

Dated at Rockville, Maryland, this 1st day of October 2001.
For the Nuclear Regulatory Commission.
Stewart Brown,
Facilities Decommissioning Section, Decommissioning Branch, Division of Waste Management, Office of Nuclear Material Safety and Safeguards.

[FR Doc. 01-25187 Filed 10-5-01; 8:45 am]

BILLING CODE 7590-01-P